DEPARTMENT OF TRANSPORTATION

Federal Aviation Administration

14 CFR Part 71

[Airspace Docket No. 99-ASO-28]

Establishment of Class D Airspace, Amendment of Class D Airspace; Key West, FL

AGENCY: Federal Aviation Administration (FAA), DOT.

ACTION: Final rule.

SUMMARY: This action amends Class D airspace at Key West International Airport, FL, and establishes Class D airspace at Key West NAS. As a result of this action, the Key West International Airport Class D airspace area will be reduced concurrent with the establishment of the Class D airspace at Key West NAS.

EFFECTIVE DATE: 0901 UTC, April 20, 2000.

FOR FURTHER INFORMATION CONTACT: Nancy B. Shelton, Manager, Airspace Branch, Air Traffic Division, Federal Aviation Administration, P.O. Box 20636, Atlanta, Georgia 30320; telephone (404) 305-5627.

SUPPLEMENTARY INFORMATION:

History

On January 5, 2000, the FAA proposed to amend part 71 of the Federal Aviation Regulations (14 CFR part 71) by amending Class D airspace at Key West International Airport, FL, and establishing Class D airspace at Key West NAS, (65 FR 402). This action reduces the size of the Key West International Airport Class D airspace area concurrent with the establishment of the Key West NAS Class D airspace area. Designations for Class D airspace extending upward from the surface of the earth are published in FAA Order 7400.9G, dated September 1, 1999, and effective September 16, 1999, which is incorporated by reference in 14 CFR part 71.1. The Class D designatons listed in this document will be published subsequently in the Order.

Interested parties were invited to participate in this rulemaking proceeding by submitting written comments on the proposal to the FAA. No comments objecting to the proposal were received.

The Rule

This amendment to Part 71 of the Federal Aviation Regulations (14 CFR part 71) amends Class D airspace at Key West International Airport, FL, and establishes airspace at Key West NAS.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR Part 71 as follows:

PART 71—DESIGNATION OF CLASS A, CLASS B, CLASS C, CLASS D AND CLASS E AIRSPACE AREAS; AIRWAYS; ROUTES; AND REPORTING POINTS

1. The authority citation for 14 CFR Part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9G, Airspace Designations and Reporting Points, dated September 1, 1999, and effective September 16, 1999, is amended as follows:

Paragraph 5000 Class D Airspace.

* * * * *

ASO FL D Key West NAS, FL [New]

Key West NAS, FL

(Lat. 24°34′33″N, long. 81°41′20″W)

Key West International Airport

(Lat 24°33′23″N, long. 81°45′34″W)

That airspace extending upward from the surface to and including 2,500 feet MSL within a 5.3-mile radius of Key West NAS, excluding that airspace within the Key West International Airport Class D airspace area. This Class D airspace area is effective during the specific days and times established in advance by a Notice to Airmen. The effective days and times will thereafter by continuously published in the Airport/Facility Directory.

* * * * *

ASO FL D Key West, FL [Revised]

Key West International Airport, FL

(Lat. 24°33′23″N, long. 81°45′34″W)

Key West NAS

(Lat. 24°34′33″N, long. 81°41′20″W)

That airspace extending upward from the surface to and including 2,500 feet MSL beginning at lat. 24°37′12″N, long. 81°44′41″W; to lat. 24°33′04″N, long. 81°43′48″W; to lat 24°31′15″N, long. 81°45′22″W; to lat. 24°30′35″N, long. 81°45′14″W; thence counterclockwise via the 5.3-mile radius of Key West NAS to the intersection of the 3.9-mile radius of the Key West International Airport, thence clockwise via the 3.9-mile radius of the Key West International Airport to the point of beginning. This Class D airspace area is effective during the specific days and times established in advance by a Notice to Airmen. The effective days and times will thereafter be continuously published in the Airport/Facility Directory.

* * * * *
Issued in College Park, Georgia, on February 9, 2000.
Nancy B. Shelton,
Acting Manager, Air Traffic Division Southern Region.

[FR Doc. 00-4107 Filed 2-18-00; 8:45 am]

BILLING CODE 4910-13-M